DEPARTMENT OF VETERANS AFFAIRS

[OMB Control No. 2900-0025]

Agency Information Collection Activities Under OMB Review

AGENCY: Office of Information and Technology, Department of Veterans Affairs.

ACTION: Notice.

SUMMARY: In compliance with the Paperwork Reduction Act (PRA) of 1995 (44 U.S.C., 3501 et seq.), this notice announces that the Office of Information and Technology, Department of Veterans Affairs, has submitted the collection of information abstracted below to the Office of Management and Budget (OMB) for review and comment. The PRA submission describes the nature of the information collection and its expected cost and burden; it includes the actual data collection instrument.

DATES: Comments must be submitted on or before October 10, 2000.

For Further Information Or a Copy of the Submission Contact: Denise McLamb, Information Management Service (045A4), Department of Veterans Affairs, 810 Vermont Avenue, NW, Washington, DC 20420, (202) 273-8030 or FAX (202) 273-5981. Please refer to “OMB Control No. 2900-0025” in any correspondence.

SUPPLEMENTARY INFORMATION: Title: Request for and Consent to Release of Information from Claimant's Records, VA Form 3288.

OMB Control Number: 2900-0025.

Type of Review: Extension of a currently approved collection.

Abstract: The form is completed by veterans and their beneficiaries to provide VA with a written consent to release records or information to third parties such as insurance companies, physicians and other individuals. Use of the form ensures an individual gives an informed written consent for the release of records or information about himself/herself that is consistent with the statutory requirements of the Privacy Act of 1974 and VA's confidentiality statute.

An agency may not conduct or sponsor, and a person is not required to respond to a collection of information unless it displays a currently valid OMB control number. The Federal Register Notice with a 60-day comment period soliciting comments on this collection of information was published on May 8, 2000, at page 26661.

Affected Public: Individuals or households.

Estimated Annual Burden: 18,875 hours.

Estimated Average Burden Per Respondent: 7.5 minutes.

Frequency of Response: On occasion.

Estimated Number of Respondents: 151,000.

Send comments and recommendations concerning any aspect of the information collection to VA's OMB Desk Officer, Allison Eydt, OMB Human Resources and Housing Branch, New Executive Office Building, Room 10235, Washington, DC 20503 (202) 395-4650. Please refer to “OMB Control No. 2900-0025” in any correspondence.

Dated: August 8, 2000.
By direction of the Acting Secretary.
Donald L. Neilson,
Director, Information Management Service.

[FR Doc. 00-22894 Filed 9-6-00; 8:45 am]

BILLING CODE 8320-01-P